DEPARTMENT OF HEALTH AND HUMAN SERVICES

National Committe on Vital and Health Statistics: Meeting

Pursuant to the Federal Advisory Committee Act, the Department of Health and Human Services (HHS) announces the following advisory committee meeting.

Name: National Committee on Vital and Health Statistics (NCVHS), Ad Hoc Workgroup on the Nationwide Health Information Network (NHIN).

Time and Date: June 29, 2006—10 a.m.-4 p.m.

Place: Natcher Conference Center Auditorium, National Institutes of Health, 45 Center Drive, Bethesda, MD.

Status: Open.

Purpose: The National Committee on Vital and Health Statistics (NCVHS) has been asked by the Office of the National Coordinator for Health Information Technology (ONC) to assist in the process of identifying a set of minimal but inclusive functional requirements for Nationwide Health Information Network (NHIN) service. An Ad Hoc NCVHS Workgroup on the NHIN has been organized to pursue this activity. The Workgroup will meet at the end of the Nationwide Health Information Network Forum to receive reports from the Forum break-out sessions and take public comment. The final intent is to develop a document that recommends a minimum but inclusive set of functional requirements, focusing on critical technical components of architectures to support a Nationwide Health Information Network.

For Further Information Contact: Substantive program information as well as summaries of meetings and a roster of committee members may be obtained from Mary Jo Deering Ph.D., Lead Staff Person for the NCVHS Workgroup on the National Health Information Infrastructure, NCI Center for Strategic Dissemination and NCI Center for Bioinformatics, National Cancer Institute, National Institutes of Health, 6116 Executive Boulevard—Room 4087, Rockville, MD 20852, telephone (301) 594-8193, or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where an agenda for the meeting will be posted when available.

Should you require reasonable accommodation, please contact the CDC Office of Equal Employment Opportunity on (301) 458-4EEO (4336) as soon as possible.

Dated: June 9, 2006.
James Scanlon,
Deputy Assistant Secretary for Science and Data Policy, Office of the Assistant Secretary for Planning and Evaluation.

[FR Doc. 06-5517 Filed 6-16-06; 8:45am]

BILLING CODE 4151-04-M